DEPARTMENT OF HEALTH AND HUMAN SERVICES

National Institutes of Health

Eunice Kennedy Shriver National Institute of Child Health and Human Development; Notice of Meeting

Pursuant to section 10(a) of the Federal Advisory Committee Act, as amended (5 U.S.C. App.), notice is hereby given of a meeting of the National Advisory Board on Medical Rehabilitation Research.

The meeting will be open to the public, with attendance limited to space available. Individuals who plan to attend and need special assistance, such as sign language interpretation or other reasonable accommodations, should notify the Contact Person listed below in advance of the meeting.

Name of Committee: National Advisory Board on Medical Rehabilitation Research.

Date: May 5-6, 2014.

Time: May 5, 2014, 9:00 a.m. to 5:00 p.m.

Agenda: NICHD Director's Report; NCMRR Acting Director's Report; Presentations by the Patient-Centered Outcomes Research Institute, the Food and Drug Administration, and the Center for Medicare and Medicaid Service; Coordinating Rehabilitation Research activities across NIH.

Place: Hilton Washington DC/Rockville, Hotel & Executive Meeting Center, 1750 Rockville Pike, Rockville, MD 20852.

Time: May 6, 2014, 8:30 a.m. to 12:00 p.m.

Agenda: Research talk on Sleep by Board Member, Edgar Garcia-Rill, Ph.D.; Other business of the NABMRR.

Place: Hilton Washington DC/Rockville, Hotel & Executive Meeting Center, 1750 Rockville Pike, Rockville, MD 20852.

Contact Person: Ralph M. Nitkin, Ph.D., Acting Director, National Center for Medical Rehabilitation Research (NCMRR) Director, Biological Sciences and Career Development Program, NCMRR, Eunice Kennedy Shriver National Institute of Child Health and Human Development, NIH, DHHS, 6100 Executive Boulevard, Room 2A03, Bethesda, MD 20892-7510, (301) 402-4206, rn21e@nih.gov.

Information is also available on the Institute's/Center's home page:

http://www.nichd.nih.gov/about/advisory/nabmrr/Pages/index.aspx where the current roster and minutes from past meetings are posted.

(Catalogue of Federal Domestic Assistance Program Nos. 93.864, Population Research; 93.865, Research for Mothers and Children; 93.929, Center for Medical Rehabilitation Research; 93.209, Contraception and Infertility Loan Repayment Program, National Institutes of Health, HHS)

Dated: April 15, 2014.
Michelle Trout,
Program Analyst, Office of Federal Advisory Committee Policy.

[FR Doc. 2014-08941 Filed 4-18-14; 8:45 am]

BILLING CODE 4140-01-P